CONSUMER PRODUCT SAFETY COMMISSION

Sunshine Act Meeting

AGENCY: U.S. Consumer Product Safety Commission, Washington, DC 20207.

TIME AND DATE: Friday, June 23, 2000, 10:00 a.m.

LOCATION: Room 420, East West Towers, 4330 East West Highway, Bethesda, Maryland.

STATUS: Open to the Public.

MATTER TO BE CONSIDERED:

Oral Drugs Switched From Prescription to Over the Counter (OTC) Status

The Commission will consider the staff's recommendation to propose that child-resistant packaging requirements for oral prescription drugs continue when such drugs are granted over-the-counter (OTC) status by the Food and Drug Administration.

For a recorded message containing the latest agenda information, call (301) 504-0709.

CONTACT PERSON FOR ADDITIONAL INFORMATION: Sadye E. Dunn, Office of the Secretary, 4330 East West Highway, Bethesda, MD 20207 (301) 504-0800.

Dated: June 15, 2000.
Sadye E. Dunn,
Secretary.

[FR Doc. 00-15519 Filed 6-15-00; 2:27 am]

BILLING CODE 6355-01-M